DEPARTMENT OF TRANSPORTATION

Federal Aviation Administration

14 CFR Part 39

[Docket No. 2000-NM-48-AD; Amendment 39-12052; AD 2000-26-03]

RIN 2120-AA64

Airworthiness Directives; Airbus Model A310, and Model A300 B4-600, A300 B4-600R, and A300 F4-600R (A300-600) Series Airplanes

AGENCY: Federal Aviation Administration, DOT.

ACTION: Final rule; correction.

SUMMARY: This document corrects a typographical error that appeared in airworthiness directive (AD) 2000-26-03, which was published in the Federal Register on December 28, 2000 (65 FR 82262). The typographical error resulted in the misidentification of affected airplanes. This AD is applicable to Airbus Model A310, and Model A300 B4-600, A300 B4-600R, and A300 F4-600R (A300-600) series airplanes. This AD requires new wiring modifications for the engine and the fire detection system of the auxiliary power unit.

EFFECTIVE DATE: Effective February 1, 2001.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: Airworthiness Directive (AD) 2000-26-03, amendment 39-12052, was published in the Federal Register on December 28, 2000 (65 FR 82262). The AD requires new wiring modifications for the engine and auxiliary power unit (APU) fire detection system.

As published, AD 2000-26-03 incorrectly substituted a nonaffected group of airplanes for an affected group. Specifically, the AD substituted Model A300 B2 and B4 series airplanes for Model A310 series airplanes. The NPRM for this AD correctly identified the affected airplanes.

Since no other part of the regulatory information has been changed, the final rule is not being republished in the Federal Register.

The effective date of this AD remains February 1, 2001.

In AD 2000-26-03, amendment 39-12052, make the following corrections:

1. On page 82262, in the first column, the subject heading should read “Airworthiness Directives; Airbus Model A310 Series Airplanes, and Model A30A300 B4-600, A300 B4-600R, and A300 F4-600R (A300-600) Series Airplanes.”

2. On page 82262, in the first column, under the heading Summary, in the fourth line, “A300 B2 and B4” should read “A310.”

3. On page 82262, in the second column, under the heading Cost Impact, in the second line of the first paragraph, “A300 B2 and B4” should read “A310.”

§ 39.13 [Corrected]

4. On page 82262, in the third column, the applicability of AD 2000-26-03 is corrected to read as follows:

* * * * *

Applicability: Model A310 series airplanes, and Model A300 B4-600, A300 B4-600R, and A300 F4-600R (A300-600) series airplanes; certificated in any category; except those on which Airbus Modifications 06267 and 07340 have been accomplished during production.

* * * * *

Issued in Renton, Washington, on January 8, 2001.
Donald L. Riggin,
Acting Manager, Transport Airplane Directorate, Aircraft Certification Service.

[FR Doc. 01-1231 Filed 1-16-01; 8:45 am]

BILLING CODE 4910-13-U